ENVIRONMENTAL PROTECTION AGENCY

40 CFR Part 80

[FRL-6908-7]

RIN 2060-AI60

Petition by American Samoa for Exemption From Anti-Dumping Requirements for Conventional Gasoline

AGENCY: Environmental Protection Agency.

ACTION: Proposed rule.

SUMMARY: The Environmental Protection Agency (“EPA” or “the Agency”) is proposing to grant a petition by the Territory of American Samoa for exemption from the anti-dumping requirements for gasoline sold in the United States after 1995. This action is being taken because compliance with the anti-dumping requirements is not feasible or is unreasonable due to American Samoa's unique geographic location and economic factors. If the gasoline anti-dumping exemption were not granted, American Samoa would be required to import gasoline from suppliers meeting the anti-dumping requirements, adding a considerable expense to gasoline purchased by the American Samoa consumer. American Samoa is in full attainment with the National Ambient Air Quality Standard (“NAAQS”) for ozone. This action is not expected to cause harmful environmental effects to the citizens of American Samoa.

DATES: Comments on this proposed final decision must be received in writing by December 29, 2000.

ADDRESSES: Materials relevant to this petition are available for inspection in public docket A-99-17 at the Air Docket Office of the EPA, Room M-1500, 401 M Street, SW., Washington, DC 10460, (202) 260-7548, between the hours of 8:00 a.m. to 5:30 p.m., Monday through Friday. A duplicate public docket A-91-40 has been established at U.S. EPA Region IX, 75 Hawthorne Street (Mail Code: A-2-1), 17th Floor, San Francisco, CA 94105, (415) 744-1225, and is available between the hours of 8:30 a.m. to noon, and from 1 p.m. to 5 p.m., Monday through Friday. As provided in 40 CFR part 2, a reasonable fee may be charged for copying services.

FOR FURTHER INFORMATION CONTACT: Marilyn Winstead McCall at (202) 564-9029, facsimile: (202) 565-2085, e-mail address: McCall.mwinstead@epamail.epa.gov.

SUPPLEMENTARY INFORMATION: For more detailed information on this proposal, please see EPA's Direct Final Rule published in the Final Rules section of this Federal Register which approves American Samoa's petition for exemption from the gasoline anti-dumping regulations. The Agency views this direct final rule as a noncontroversial action for the reasons discussed in the Direct Final Rule published in today's Federal Register. If no adverse or critical comments or request for a public hearing are received in response to this proposal, no further action is contemplated in relation to this rule. If EPA receives adverse or critical comments, EPA will withdraw the Direct Final Rule by publishing an appropriate document in the Federal Register, and all public comments received will be addressed in a subsequent document. If a request for a public hearing is received, this will be addressed in a subsequent Federal Register notice. The EPA will not institute a second comment period on this document. Any parties interested in commenting on this action should do so at this time.

Dated: November 17, 2000.
Carol M. Browner,
Administrator.

[FR Doc. 00-30274 Filed 11-28-00; 8:45 am]

BILLING CODE 6560-50-P